DEPARTMENT OF JUSTICE

Notice of Lodging of Consent Decree Under the Comprehensive Environmental Response, Compensation, and Liability Act

Under 28 CFR 50.7, notice is hereby given that on August 8, 2005, a proposed Consent Decree in United States v. Standard Detroit Paint Co., et al., Civil Action No. 04-71442 was lodged with the United States District Court for the Eastern District of Michigan.

In this action the United States sought reimbursement of response costs incurred for response actions taken at or in connection with the release or threatened release of hazardous substances at the Standard Detroit Paint Co. Site in Detroit, Michigan (“the Site”). The Consent Decree resolves the United States' claims against the defendants on an inability to pay basis. The defendants will pay the following amounts: (1) Bruce Gooel—$10,000; (2) SDPC, Inc.—$40,000; (3) Standard Detroit Realty Co.—50% of proceeds from transfer of all real property (estimated value to U.S.—$225,000); and (4) Riverside Organics—$14,000. Additionally, Riverside Products, the newly formed successor to Riverside Organics, shall submit a hazardous substance management plan to U.S. EPA for approval and shall comply with such management plan so long as it continues operations at the Site.

The Department of Justice will receive for a period of thirty (30) days from the date of this publication comments relating to the Consent Decree. Comments should be addressed to the Assistant Attorney General, Environment and Natural Resources Division, P.O. Box 7611, U.S. Department of Justice, Washington, DC 20044-7611, and shall refer to United States v. Standard Detroit Paint Co., et al., D.J. Ref. 90-11-3-08271.

The Consent Decree may be examined at the Office of the United States Attorney, 211 W. Fort Street, Suite 2001, Detroit, MI and at U.S. EPA Region 5, 77 West Jackson Blvd., Chicago, IL. During the public comment period, the Consent Decree, may also be examined on the following Department of Justice Web site. http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury.

William D. Brighton,
Assistant Section Chief, Environmental Enforcement Section, Environment and Natural Resources Division.

[FR Doc. 05-16850 Filed 8-24-05; 8:45 am]

BILLING CODE 4410-15-M